DEPARTMENT OF DEFENSE

Office of the Secretary

[Docket ID: DoD-2015-OS-0139]

Submission for OMB Review; Comment Request

ACTION: Notice.

SUMMARY: The Department of Defense has submitted to OMB for clearance, the following proposal for collection of information under the provisions of the Paperwork Reduction Act.

DATES: Consideration will be given to all comments received by January 25, 2016.

FOR FURTHER INFORMATION CONTACT: Fred Licari, 571-372-0493.

SUPPLEMENTARY INFORMATION: Title, Associated Form and OMB Number: Report on Voluntary Military Education Programs Advertising and Marketing; OMB Control Number 0704-XXXX.

Type of Request: Emergency.

Number of Respondents: 10.

Responses per Respondent: 1.

Annual Responses: 10.

Average Burden per Response: 24.

Annual Burden Hours: 240.

Needs and Uses: The report on Voluntary Military Education Programs—Advertising and Marketing was requested in the FY14 Consolidated Appropriations Joint Explanatory Statement for the FY14 National Defense Authorization Act, page 31. Specifically, the report requested an assessment of the Department's oversight, evaluation, and enforcement of the DoD MOU referencing the provisions enacted to eliminate aggressive marketing targeting of Service members and their spouses to include a voluntary reporting of institutional data on advertising and marketing budgets. The data collected will be used to respond to the Congressional request.

Affected Public: Business or other for-profit.

Frequency: One time.

Respondent's Obligation: Voluntary.

OMB Desk Officer: Ms. Jasmeet Seehra.

Comments and recommendations on the proposed information collection should be emailed to Ms. Jasmeet Seehra, DoD Desk Officer, at Oira_submission@omb.eop.gov. Please identify the proposed information collection by DoD Desk Officer and the Docket ID number and title of the information collection.

You may also submit comments and recommendations, identified by Docket ID number and title, by the following method:

• Federal eRulemaking Portal: http://www.regulations.gov. Follow the instructions for submitting comments.

Instructions: All submissions received must include the agency name, Docket ID number and title for this Federal Register document. The general policy for comments and other submissions from members of the public is to make these submissions available for public viewing on the Internet at http://www.regulations.gov as they are received without change, including any personal identifiers or contact information.

DoD Clearance Officer: Mr. Frederick Licari.

Written requests for copies of the information collection proposal should be sent to Mr. Licari at WHS/ESD Directives Division, 4800 Mark Center Drive, East Tower, Suite 02G09, Alexandria, VA 22350-3100.

Dated: December 18, 2015.
Aaron Siegel,
Alternate OSD Federal Register Liaison Officer, Department of Defense.

[FR Doc. 2015-32350 Filed 12-23-15; 8:45 am]

BILLING CODE 5001-06-P